DEPARTMENT OF TRANSPORTATION

Federal Aviation Administration

[Docket No. FAA-2025-5396]

Notice of Intent To Designate as Abandoned Stephen M. Hill Supplemental Type Certificate No. SA1584SW

AGENCY: Federal Aviation Administration (FAA), DOT.

ACTION: Notice of intent to designate supplemental type certificate as abandoned; request for comments.

SUMMARY: This notice announces the FAA's intent to designate Stephen M. Hill Supplemental Type Certificate (STC) No. SA1584SW as abandoned and make the related engineering data available upon request. The FAA has received a request to provide engineering data concerning this STC. The FAA has been unsuccessful in contacting Stephen M. Hill concerning the STC. This action is intended to enhance aviation safety.

DATES: The FAA must receive all comments by June 16, 2026.

ADDRESSES: You may send comments on this notice by any of the following methods:

• Federal eRulemaking Portal: Go to regulations.gov. Follow the instructions for submitting comments.

• Mail: Richard Bolden, AIR-756, Federal Aviation Administration, East Certification Branch, 1701 Columbia Avenue, College Park, GA 30337.

• Email: richard.bolden@faa.gov. Include “Docket No. FAA-2025-5396” in the subject line of the message.

• Hand Delivery: Deliver to Mail address above between 9 a.m. and 5 p.m., Monday through Friday, except Federal holidays.

FOR FURTHER INFORMATION CONTACT: Richard Bolden, FAA, East Certification Branch, 1701 Columbia Avenue, College Park, GA 30337; telephone: 404-474-5592; email: richard.bolden@faa.gov.

SUPPLEMENTARY INFORMATION:

Comments Invited

The FAA invites interested parties to provide comments, written data, views, or arguments relating to this notice. Send your comments using a method listed under the ADDRESSES section. Include “Docket No. FAA-2025-5396 at the beginning of your comments. The FAA will consider all comments received on or before the closing date. All comments received will be available in the docket for examination by interested persons.

Background

The FAA is posting this notice to inform the public that the FAA intends to designate as abandoned Stephen M. Hill STC No. SA1584SW and subsequently release the related engineering data. Stephen M. Hill STC No. SA1584SW is for single and dual camera installations, navigation sight installations, drop port installation, and emergency exit and door optical glass installations for oblique cameras in Gulfstream American Model 680FL(P), 680T, 680V, 680W, 681, 690, 680F(Press), 690A, 685, 690B, 690C, and 695 airplanes.

The FAA has received a third-party request for the release of the aforementioned engineering data under the provisions of the Freedom of Information Act (FOIA), 5 U.S.C. 552. The FAA cannot release commercial or financial information under FOIA without the permission of the data owner. However, in accordance with title 49 of the United States Code § 44704(a)(5), the FAA can provide STC “engineering data” it possesses for STC maintenance or improvement, upon request, if the following conditions are met:

1. The FAA determines the STC has been inactive for 3 years or more;

2. Using due diligence, the FAA is unable to locate the owner of record or the owner of record's heir; and

3. The availability of such data will enhance aviation safety.

There has been no activity on this STC for more than 3 years.

On April 18, 2025, the FAA sent a certified letter to Stephen M. Hill at his last known addresses: 151 Chase Street, Florence, SC 29501 and 1300 Pickney Avenue, Florence, SC 29501. The letter informed Stephen M. Hill that the FAA had received a request for engineering data related to STC No. SA1584SW and was conducting a due diligence search to determine whether the STC was inactive and may be considered abandoned. The letter further requested Mr. Stephen M. Hill to respond in writing within 60 days and state whether he is the holder of the STC. The FAA also attempted to contact Stephen M. Hill by other means, including telephone communication, email, registered mail, etc., without success.

Information Requested

If you are the owner or heir or a transferee of STC No. SA1584SW or have any knowledge regarding who may now hold STC No. SA1584SW, please contact Richard Bolden using a method described in this notice under FOR FURTHER INFORMATION CONTACT. If you are the heir of the owner, or the owner by transfer, of STC No. SA1584SW, you must provide a notarized copy of your government-issued identification with a letter and background establishing your ownership of the STC and, if applicable, your relationship as the heir to the deceased holder of the STC.

Conclusion

If the FAA does not receive any response by June 16, 2026, the FAA will consider STC No. SA1584SW abandoned, and the FAA will proceed with the release of the requested data. This action is for the purpose of maintaining the airworthiness of an aircraft and enhancing aviation safety.

Issued on December 16, 2025.
Steven W. Thompson,
Acting Deputy Director, Compliance & Airworthiness Division, Aircraft Certification Service.

[FR Doc. 2025-23266 Filed 12-17-25; 8:45 am]

BILLING CODE 4910-13-P